CONSUMER PRODUCT SAFETY COMMISSION

[Docket No. CPSC-2020-0027]

Agency Information Collection Activities; Submission for OMB Review; Comment Request; Warning Label Comprehension and Interpretation by Consumers for Children's Sleep Environments

AGENCY: Consumer Product Safety Commission.

ACTION: Notice.

SUMMARY: As required under the Paperwork Reduction Act of 1995 (PRA), the Consumer Product Safety Commission (CPSC or Commission) announces that CPSC has submitted to the Office of Management and Budget (OMB) a new proposed collection of information for a survey that will evaluate consumer awareness of infant sleep product warning labels. On December 21, 2020, the CPSC published a notice in the Federal Register announcing the agency's intent to seek approval of this collection of information. After reviewing and considering the comments, the Commission announces that it has submitted to the OMB a request for approval of this collection of information. A copy of the proposed survey, “Revised Supporting Statement” titled Consumer Product Safety Commission: Warning Label Comprehension and Interpretation by Consumers for Children's Sleep Environments, is available at: www.regulations.gov under Docket No. CPSC-2020-0027, Supporting and Related Material.

DATES: Submit written or electronic comments on the collection of information by May 17, 2021.

ADDRESSES: Send written comments and recommendations for the proposed information collection within 30 days of publication of this notice to: www.reginfo.gov/public/do/PRAMain.

Find this particular information collection by selecting, “Currently under 30-day Review—Open for Public Comments,” or by using the search function. In addition, written comments that are sent to OMB also should be submitted electronically at: http://www.regulations.gov, under Docket No. CPSC-2020-0027.

FOR FURTHER INFORMATION CONTACT: Cynthia Gillham, Consumer Product Safety Commission, 4330 East-West Highway, Bethesda, MD 20814; (301) 504-7991, or by email to: cgillham@cpsc.gov.

SUPPLEMENTARY INFORMATION:

A. Background

Under the Paperwork Reduction Act of 1995 (PRA; 44 U.S.C. 3501-3520), federal agencies must obtain approval from OMB for each collection of information they conduct or sponsor. “Collection of information” is defined in 44 U.S.C. 3502(3) and 5 CFR 1320.3(c) and includes agency data-collection studies. The PRA establishes procedures agencies must follow to obtain OMB approval of a collection of information, including notice and a review of comments, among other procedures. Agencies must provide notice of the proposed collection of information in the Federal Register, and provide a 60-day comment period, before submitting the collection to OMB for approval. 44 U.S.C. 3506(c)(2)(A). Agencies then must evaluate any public comments and publish another notice in the Federal Register. Id. 3507(a)(1).

In accordance with these procedures, on December 21, 2020, CPSC published a notice in the Federal Register announcing the agency's intent to seek approval of a new collection of information on a survey on Warning Label Comprehension and Interpretation by Consumers for Children's Sleep Environments. 85 FR 83066. Section D. Comments, below, summarizes and addresses the comments CPSC received.

B. Warning Label Comprehension Survey

CPSC is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that CPSC may conduct research, studies, and investigations on the safety of consumer products, or test consumer products and develop product safety test methods and testing devices.

In 2019, the CPSC published the 2019 Nursery Product Annual Report, which reported injuries and deaths associated with nursery products among children younger than age 5.¹ That report identified 320 deaths related to nursery products from 2014 through 2016. Infant sleep products were associated with the most deaths: Cribs/mattresses (33%), cradles/bassinets (18%), and playpens/play yards (20%). Also, in 2019, CPSC conducted a focus group of 48 participants to gather feedback from parents and grandparents (caregivers) on their beliefs, experience, and perceptions about infant sleeping practices and caregivers' compliance with safety messaging on nursery products. Caregiver responses in the focus group study indicated limited adherence to infant sleep safety warning messaging.² Some of the reasons for lack of adherence to safety warnings include caregiver perceptions that warning labels contain repetitive, non-specific information that fails to target the safety hazard. Additionally, caregivers are inundated with safety messaging that changes constantly, resulting in ambiguity about what messages are most relevant and current. Product marketing and the proliferation of new products may confuse caregivers as well. Caregivers often end up listening to friends and family, or relying on past experience, to decide what behaviors are safe for their child, rather than follow the current guidelines recommended by experts. If caregivers are not attuned to the safety messaging on new products, they are more likely to use the products incorrectly.

¹ https://www.cpsc.gov/s3fs-public/Nursery%20Products%20Annual%20Report%20Dec2019_2.pdf? TkU_cVyVv69sq6Lpx0aSRjoLomqXWxRq.

² https://www.reginfo.gov/public/do/PRAViewIC?ref_nbr=201909-3041-002&icID=234760.

Accordingly, CPSC seeks to learn more about consumers' understanding of specific warning labels related to products that may be used as a sleeping environment for infants and how those labels influence caregivers' behavior. In the proposed information collection, CPSC seeks to survey 650 caregivers to obtain information regarding the gap in consumer knowledge about product warning labels and consumer adherence to, and behaviors associated with, warning labels. The online survey will be conducted with caregivers age 18 and above, who are a parent or a grandparent with a child/grandchild from 2 months to 11 months old.

CPSC has contracted with Fors Marsh Group, LLC, to develop and execute this project for CPSC. If CPSC can obtain information through the survey about caregiver perceptions and comprehension of warning label language, CPSC will be able to identify better the types of safety warning labels and safety messaging that are unclear to the target audience, and that potentially serve as a barrier to safe sleep. Information obtained through this survey is not intended to be nationally representative. CPSC intends to use findings from this survey, in conjunction with findings from other research and activities, to assist with providing recommendations for refining and enhancing warning labels in the future.

C. Burden Hours

We estimate the number of respondents to the survey to be 650. The online survey for the proposed study will take approximately 15 minutes (0.25 hours) to complete. We estimate the total annual burden hours for respondents to be 162.50 hours. The monetized hourly cost is $36.22, as defined by total compensation for all civilian workers, U.S. Bureau of Labor Statistics, Employer Costs for Employee Compensation, as of March 2020. Accordingly, we estimate the total cost burden to be $5,885.75 (162.50 hours × $36.22). The total cost to the federal government for the contract to design and conduct the proposed survey is $150,987.

D. Comments

CPSC received three comments in response to the notice of December 21, 2020. All three commenters supported the information collection and made additional suggestions regarding the survey.

One commenter recommended ensuring that “at-risk populations” will be included in the survey. This commenter also recommended that the pool of eligible responders be broadened to include other family members and childcare providers. The survey currently is designed to obtain a mix demographics of responders, including members of at-risk populations, but it does not have specific percentages of groups allocated. Since the information obtained through this project is not intended to be nationally representative, but rather, designed generally to inform CPSC about caregiver perceptions and comprehension of warning label language, CPSC believes the current design of mixed demographics is sufficient.

The same commenter also recommended that the survey be conducted in multiple languages, use easy-to-understand language, and use pictures. The survey is already designed using clear, easy-to-understand language; however, pictograms are not used or contemplated in this survey. The use of pictograms would require a different type of survey, due to the need to test and verify the pictograms for understandability, and that is outside the scope of this survey. However, the CPSC may consider future surveys, with targeted audiences of interest, to obtain information that will help CPSC refine and optimize labels.

Another commenter recommended that the messaging in the warnings should align with the American Academy of Pediatrics' (AAP) evidence-based safe sleep recommendations that babies should be placed alone to sleep in a crib, bassinet, or play yard that meets current federal standards; on a firm, flat surface in their own space; and with no restraints or extra bedding. CPSC staff seeks to identify ways to increase caregiver understanding and adherence to infant product warning labels, which, in turn, may potentially reduce the incidence of infant sleep-related deaths in the future. Therefore, the warning messages on the example labels do not contradict AAP infant safe sleep recommendations. This commenter also stated that warning labels should not be used as substitutes for safe product design. CPSC staff agrees that in the hierarchy of safety, warnings are not a substitute for safe product design, but when attached to infant products, warnings are useful, because they can serve to remind caregivers of the safety warnings while caregivers are using the products.

A third commenter requested that the information provided in the survey clearly distinguish between products intended for overnight and unattended sleep, and those designed for other activities, including napping. CPSC agrees this distinction will help clarify the question for caregivers. Accordingly, CPSC has revised the following question in the survey: “Which of the following product(s) do you use to put your infant to sleep” into two separate questions: (1) Which of the following products do you use to put your infant to sleep overnight?; and (2) Which of the following products do you use to put your infant in for supervised use, including napping? In addition, CPSC has changed the references throughout the survey from: “Warnings on Infant Sleep Products,” to: “Warnings on Infant Products,” to cover warning labels that might be intended for overnight and unattended sleep, as well as infant products designed for other activities.

This commenter also stated that asking responders a question about whether they “like” or “dislike” a warning label is inappropriate, and they suggested that it is more appropriate to ask about effectiveness of warning labels. CPSC agrees that seeking a response on the “likeability” of the warning label may not elicit a meaningful response. Accordingly, this question has been deleted from the survey. A copy of the proposed survey, “Revised Supporting Statement” titled Consumer Product Safety Commission: Warning Label Comprehension and Interpretation by Consumers for Children's Sleep Environments, is available at: www.regulations.gov under Docket No. CPSC-2020-0027, Supporting and Related Material.

Alberta E. Mills,
Secretary, Consumer Product Safety Commission.

[FR Doc. 2021-07707 Filed 4-14-21; 8:45 am]

BILLING CODE 6355-01-P